FEDERAL MARITIME COMMISSION

Ocean Transportation Intermediary License Applicants

Notice is hereby given that the following applicants have filed with the Federal Maritime Commission an application for license as an Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Transexpress, Inc., 7801 NW 37th Street, Miami, FL 33166, Officers: Hector J. Guzman, President (Qualifying Individual), Ana Lida Guzman, Secretary.

Evergreen International Group, LLC, 1937 Pontius Ave., #301, Los Angeles, CA 90025, Officers: Ho-Chun-Lee, Import Manager (Qualifying Individual), Jenq Horng Chen, President.

JX Global, Inc. dba GFX Logistics Group, 550 E. Carson Plaza Drive, #208, Carson, CA 90746, Officers: Doug Hee Shin, CEO (Qualifying Individual), Duk Gyun Kim, CFO/Secretary.

C & F Worldwide Agency Corp., Carr 848 KM 3.2 Calle Diaz Final, St. Just Carolina, PR 00983, Officers: Jose E. Del Cueto, President (Qualifying Individual), Ana M. Del Cueto, Vice President.

Ampact Transline, Inc., 1533 W. 139th Street, Gardena, CA 90249, Officer: Wu J. Yl, President (Qualifying Individual).

Aras International, Inc. dba Umac Express Cargo Of San Diego, 4518 Vista De La Tierra, Del Mar, CA 92014, Officers: Amable H. Aguiluz, IV, Vice President (Qualifying Individual), Emer S. Aguiluz, President.

Timothy E. Granderson, 1-C Clifton Hill, Kingshill, St. Croix, U.S. Virgin Islands 00850, Sole Proprietor.

Orion Transport Corporation, 21136 S. Wilmington Avenue, Suite 110, Carson, CA 90810, Officers: Kenneth Isao Kawashiri, Vice President (Qualifying Individual), Kien Ngo, President.

I-Dream S & A, Inc., 460 E. Carson Plaza Drive, Suite 220, Carson, CA 90746, Officers: Susan Songun Mun, Vice President (Qualifying Individual), Young Hyo Kim, President.

Dolphin Express Inc., 141 Lanza Avenue, Building No. 29N, Garfield, NJ 07026, Officers: Shlomi Shuly Raymond, Vice President (Qualifying Individual), Mordechai Mezuman, President.

Wonder Shipping Line Inc., 1460 Rolling Hill Drive, Monterey Park, CA 91754, Officers: Howard Tsung Hao Liu, CEO (Qualifying Individual), Mei-Ling Lu, CFO.

Transportes Zuleta, Inc., 844 W. Flagler Street, Miami, FL 33130, Officers: Jaqueline Valle Morales, President (Qualifying Individual), Hermelinda Valle, Vice President.

Non-Vessel Operating Common Carrier and Ocean Freight Forwarder Transportation Intermediary Applicants

SWT Shipping USA Inc., 4034 W 21st Street, Los Angeles, CA 90018, Officers: Han P. Kim, General Manager (Qualifying Individual), Choon Y. Cha, CEO.

Caribbean Travel Agency Inc. & Cargo, dba Ferrons W.I. Shipping Co, 735 Blue Hills Avenue, Unit 3, Bloomfield, CT 06002, Officers: Walter L. Benjamin, President (Qualifying Individual), Daemond Benjamin, Vice President.

AMF Global Transportation, 1630 Jarvis Avenue, Elk Grove Village, IL 60007, Officers: Michael Franco, President (Qualifying Individual), James Matta, Vice President.

AME Logistics LLC, 156-15 146th Avenue, Suite 128, Jamaica, NY 11434, Officers: Peter Lee, President (Qualifying Individual), James Lo Fong Ming, Director.

Reliable International Logistics, Inc., 33442 Western Avenue, Union City, CA 94587, Officers: Mike Chiali Chu, President (Qualifying Individual), Hermes C. Hu, Vice President.

Delta Wholesale Trading Corp. IV, dba Delta Cargo Logistic, 5101 W. Esplanade Avenue, Suite #9, Metairie, LA 70006, Officers: Carlos H. Sosa, Traffic & Cargo Manager (Qualifying Individual), Salvador Abud, President.

Ocean Freight Forwarder—Ocean Transportation Intermediary Applicants

Interlink Logistics & Management Inc., 13412 SW 131 Street, Miami, FL 33186, Officers: Damary Cordova Dominquez, Treasurer (Qualifying Individual), Fatima G. Lopes, President.

Carex Shipping LLC, 1555 E. Flamingo, Suite 155, Las Vegas, NV 89119, Officer: Michael Sekirin, Owner.

Spirit International Transport, Inc., 40 East Daniels Road, Palatine, IL 60067, Officer: Jim Romano, President (Qualifying Individual).

Dated: April 9, 2004.
Karen V. Gregory,
Assistant Secretary.

[FR Doc. 04-8475 Filed 4-13-04; 8:45 am]

BILLING CODE 6730-01-P